DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by January 23, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

Applicant: Roger Heintzman, Aberdeen, SD, PRT-065782.

The applicant requests a permit to import the sport-hunted trophy of one male bontebok (Damaliscus pygargus dorca) culled from a captive herd maintained under the management program of the Republic of South Africa for the purpose of enhancement of the survival of the species.

Applicant: Frank R. Daigle, St. Michael, MN, PRT-065784.

The applicant requests a permit to import the sport-hunted trophy of one male bontebok (Damaliscus pygargus dorca) culled from a captive herd maintained under the management program of the Republic of South Africa for the purpose of enhancement of the survival of the species.

Applicant: Zoological Society of San Diego/San Diego Wild Animal Park, Escondido, CA, PRT-054066.

The applicant requests a permit to import two captive bred kagu (Rhynochetos jubatus) from the Yokohama Zoological Garden, Yokohama, Japan for the purpose of enhancement of the survival of the species through captive propagation and conservation education.

Applicant: Cienegas Ranches, Ltd., Austin, TX, PRT-040025.

The applicant requests renewal of a permit to authorize interstate and foreign commerce, export, and cull of excess male barasingha (Cervus duvauceli) from their captive herd for the purpose of enhancement of the survival of the species. This notification covers activities conducted by the applicant over a period of three years. Permittee must apply for renewal annually.

Applicant: Barbara Hoffmann dba The Exotic Endangered Cats of the World, Gibsonton, FL, PRT-064800 & 064801.

The applicant requests a permit to export, re-export, and re-import captive-born tiger (Panthera tigris) and captive-born African leopard (Panthera pardus) to/from worldwide locations to enhance the survival of the species through conservation education. This notification covers activities conducted by the applicant over a three-year period.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR part 18) and endangered species (50 CFR part 17). Written data, comments, or requests for copies of the complete applications or requests for a public hearing on these applications should be submitted to the Director (address above). Anyone requesting a hearing should give specific reasons why a hearing would be appropriate. The holding of such a hearing is at the discretion of the Director.

Applicant: Florida Atlantic University, Boca Raton, FL, PRT-063561.

Permit Type: Take for scientific research.

Name and Number of Animals: Florida manatee (Trichechus manatus latirostris), 40 per year.

Summary of Activity to be Authorized: The applicant requests a permit to conduct a study to archive and evaluate manatee responses to controlled boat approaches. Half of the controlled boat approaches will incorporate a device which will project an alerting signal designed to be within the manatees' hearing sensitivity. The boat approaches will be monitored and recorded by in-boat manatee spotters, shore-based spotters, video from an aerial surveillance system and still photography. The boats will be equipped with propeller guards and will not approach any closer than three manatee body lengths.

Source of Marine Mammals: Animals in and near Haulover Canal, Brevard County, and Buzzard Island in Crystal River, Florida.

Period of Activity: Up to 3 years, if issued.

Concurrent with the publication of this notice in the Federal Register, the Division of Management Authority is forwarding copies of the above applications to the Marine Mammal Commission and the Committee of Scientific Advisors for their review.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Scott Vee, Brule, WI, PRT-065351.

The applicant requests a permit to import a polar bear (Ursus maritimus) sport hunted from the Western Hudson Bay polar bear population in Canada for personal use.

Applicant: Robert B. Michalek, Springville, NY, PRT-065467.

The applicant requests a permit to import a polar bear (Ursus maritimus) sport hunted from the Western Hudson Bay polar bear population in Canada for personal use.

The U.S. Fish and Wildlife Service has information collection approval from OMB through March 31, 2004, OMB Control Number 1018-0093. Federal Agencies may not conduct or sponsor and a person is not required to respond to a collection of information unless it displays a current valid OMB control number.

Dated: December 6, 2002.
Monica Farris,
Senior Permit Biologist, Branch of Permits, Division of Management Authority.

[FR Doc. 02-32330 Filed 12-23-02; 8:45 am]

BILLING CODE 4310-55-P